DEPARTMENT OF THE INTERIOR

National Park Service

[NPS-WASO-CRPS-NAGPRA-19351; PPWOCRADN0, PCU00RP14.R50000 (166)]

Information Collection Request Sent to the Office of Management and Budget (OMB) for Approval; Native American Graves Protection and Repatriation

AGENCY: National Park Service, Interior.

ACTION: Notice; request for comments.

SUMMARY: We (National Park Service, NPS) have sent an Information Collection Request (ICR) to OMB for review and approval. We summarize the ICR below and describe the nature of the collection and the estimated burden and cost. This collection is set to expire on November 30, 2015. We may not conduct or sponsor and a person is not required to respond to a collection of information unless it displays a currently valid OMB Control Number.

DATES: You must submit comments on or before December 7, 2015.

ADDRESSES: Send your comments and suggestions on this information collection to the Desk Officer for the Department of the Interior at OMB-OIRA at (202) 395-5806 (fax) or OIRA_Submission@omb.eop.gov (email). Please also send a copy of your comments to Madonna L. Baucum, Information Collection Clearance Officer, National Park Service, 12201 Sunrise Valley Dr. (MS-242, Rm. 2C114), Reston, VA 20192 (mail); or madonna_baucum@nps.gov (email). Please reference OMB Control Number “1024-0144” in the subject line of your comments.

FOR FURTHER INFORMATION CONTACT: Melanie O'Brien, Manager, National NAGPRA Program, National Park Service, 1849 C Street NW., Washington, DC 20240; (202) 354-2204 (phone); (202) 371-5179 (fax); or Melanie_O'Brien@nps.gov (email). You may review the ICR online at http://www.reginfo.gov. Follow the instructions to review Department of the Interior collections under review by OMB.

SUPPLEMENTARY INFORMATION:

I. Abstract

The Native American Graves Protection and Repatriation Act (NAGPRA), requires museums to compile certain information (summaries, inventories, and notices) regarding Native American cultural items in their possession or control. Museums must provide that information to lineal descendants; likely interested Indian tribes and Native Hawaiian organizations; and the National NAGPRA Program (acting on behalf of the Secretary of the Interior, housed in the National Park Service) to support consultation in the process of publishing notices that establish rights to repatriation. The summaries are general descriptions of the museum's Native American collection. The summaries are sent to all possibly interested tribes to disclose the collection, should the tribe desire to consult on items and present a claim. The inventories are item-by-item lists of the human remains and their funerary objects, upon which the museum consults with likely affiliated tribes to determine cultural affiliation, tribal land origination, or origination from aboriginal lands of Federal recognized tribes.

Consultation and claims for items require information exchange between museums and tribes on the collections. Notices of Inventory Completion (published in the Federal Register) indicate museum decisions of rights of lineal descendants and tribes to receive human remains and funerary objects. Notices of Intent to Repatriate (published in the Federal Register) indicate the agreements of museums and tribes to transfer control to tribes of funerary objects, sacred objects, and objects of cultural patrimony. Museums identify NAGPRA protected items in the collection through examination of museum records and from consultation with tribes.

The National NAGPRA Program maintains the public databases of summary, inventory, and notice information to support consultation. In the first 25 years of the administration of NAGPRA, approximately 50,000 Native American human remains, of a possible collection of over 200,000 individuals, have been listed in NAGPRA notices. Information collected in previous years is of lasting benefit, and creates diminishing efforts in future years.

II. Data

OMB Control Number: 1024-0144.

Title: Native American Graves Protection and Repatriation, 43 CFR part 10.

Type of Request: Extension of a previously approved collection of information.

Description of Respondents: Museums and tribes.

Respondent's Obligation: Mandatory.

Frequency of Collection: On occasion.

Activity | Annual respondents | Average time/response | Total annual burden hours
New Summary/Inventory | 3 | 100 hours | 300
Updated Summary/Inventory Data | 471 | 10 hours | 4.710
Notices | 105 | 10 hours | 1,050
Notify Tribes and Request | 14 | 30 minutes | 7
Respond to Request for Information | 16 | 48 minutes | 13
Totals | 609 |  | 6,080

Estimated Annual Nonhour Burden Cost: There are no nonhour burden costs associated with this collection.

III. Comments

On February 17, 2015, we published in the Federal Register (80 FR 8339) a notice of our intent to request that OMB renew approval for this information collection. In that notice, we solicited comments for 60 days, ending on April 20, 2015. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: November 2, 2015.
Madonna L. Baucum
Information Collection Clearance Officer, National Park Service.

[FR Doc. 2015-28318 Filed 11-5-15; 8:45 am]

BILLING CODE 4310-EH-P